ENVIRONMENTAL PROTECTION AGENCY

[ER-FRL-8986-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090303, ERP No. D-AFS-L65520-OR, Upper Beaver Creek Vegetation Management Project, Proposes to Implement Multiple Resource Management Actions, Pauline Ranger District, Ochoco National Forest, Crook County, OR.

Summary: EPA expressed environmental concerns about riparian habitat impacts. Rating EC2.

EIS No. 20090320, ERP No. D-AFS-L65521-OR, EXF Thinning, Fuel Reduction, and Research Project, Proposal for Vegetation Management and Fuel Reduction within the Lookout Mountain Unit of the Pringle Falls Experimental Forest, Bend/Ft. Rock Ranger District, Deschutes National Forest, Deschutes County, OR

Summary: EPA does not object to the proposed project. Rating LO.

EIS No. 20090332, ERP No. D-AFS-K65380-NV, Middle Kyle Canyon Complex Project, Construction and Operation of a Recreation Complex within the Spring Mountains National Recreation Area, Humboldt-Toiyabe National Forest, Clark County, NV

Summary: EPA expressed environmental concerns about impacts to water quality, hydrology, aquatic resources, critical habitat, and air quality. EPA requested that these impacts be mitigated. Rating EC2.

EIS No. 20090373, ERP No. DS-BLM-K65352-NV, ON Line Project, (Previously Known as Ely Energy Center) Proposed 236-mile long 500 kV Electric Transmission Line from a new substation near Ely, Nevada approximately 236 mile south to the existing Harry Allen substation near Las Vegas, Clark, Lincoln, Nye and White Pine Counties, NV

Summary: EPA does not object to the proposed project. Rating LO.

EIS No. 20090379, ERP No. DS-COE-E30037-FL, Brevard County, Florida Hurricane and Storm Damage Reduction Project, To Reduce the Damages Caused by Erosion and Coastal Storms to Shorefront Structures Along the Mid-Reach Segment, Implementation, Brevard County, FL

Summary: EPA continues to have environmental concerns about the long-term impacts of inundating hard-bottom habitat. Rating EC2.

Final EISs

EIS No. 20090358, ERP No. F-AFS-J65541-MT, Marsh and Tarhead Allotment Management Plans, Proposes to Authorize Grazing of Livestock under 10-year Permits, Lincoln Ranger District, Helena National Forest, Lewis and Clark Counties, MT

Summary: EPA's previous issues have been resolved; therefore, EPA does not object to the proposed action.

EIS No. 20090387, ERP No. F-BLM-K65030-CA, Carrizo Plain National Monument, Draft Resource Management Plan, Implementation, San Luis Obispo County and Portion of western Kern County, CA

Summary: EPA does not object to the proposed project.

Dated: December 15, 2009.
Ken Mittelholtz,
Deputy Director, NEPA Compliance Division, Office of Federal Activities.

[FR Doc. E9-30126 Filed 12-17-09; 8:45 am]

BILLING CODE 6560-50-P